DEPARTMENT OF COMMERCE

National Oceanic and Atmospheric Administration

15 CFR Part 902

50 CFR Part 660

[Docket No. 100212086-0210-01]

RIN 0648-AY68

Fisheries off West Coast States; Pacific Coast Groundfish Fishery Management Plan; Amendments 20 and 21; Trawl Rationalization Program; Correction

AGENCY: National Marine Fisheries Service (NMFS), National Oceanic and Atmospheric Administration (NOAA), Commerce.

ACTION: Proposed rule; correction.

SUMMARY: NMFS is correcting dates referenced in the preamble to the proposed rule for Amendments 20 and 21 to the Pacific Coast Groundfish Fishery Management Plan (FMP), which published in the Federal Register on June 10, 2010. The dates being corrected refer to the decision date for the FMP amendments and the end date for the public comment period on the two amendments. Amendment 20 would establish a trawl rationalization program for the Pacific Coast groundfish fishery. Amendment 21 would establish fixed allocations for limited entry (LE) trawl participants.

DATES: Effective June 10, 2010.

FOR FURTHER INFORMATION CONTACT: Jamie Goen, 206-526-4656; (fax) 206-526-6736; Jamie.Goen@noaa.gov.

SUPPLEMENTARY INFORMATION:

Need for Correction

Some dates referenced in the preamble to the proposed rule for the trawl rationalization program (75 FR 32994, June 10, 2010) regarding the decision date for the FMP amendments and the end date for the public comment period need to be corrected. In two places in the preamble to the proposed rule, NMFS had instructed the Federal Register to “Insert date XX days after date of publication of the NOA in the FEDERAL REGISTER.” The Federal Register inserted dates that were calculated from the proposed rule rather than the notice of availability (NOA) (75 FR 26702, May 12, 2010). NMFS has since learned that the Federal Register cannot calculate dates between two publications; in this case, between the NOA and the proposed rule. The erroneous dates show up on page 32994 of the published proposed rule as September 8, 2010, and August 9, 2010. They should read August 10, 2010, and July 12, 2010, respectively.

Accordingly, the preamble to the proposed rule, published on June 10, 2010, at 75 FR 32994, on page 32994, third column, second paragraph after “Electronic Access,” is corrected to read as follows:

“Although this proposed rule would implement only certain portions of Amendments 20 and 21, NMFS is reviewing both Amendments 20 and 21 in their entirety. On May 12, 2010, NMFS published a notice of availability of Amendments 20 and 21, and—consistent with requirements of the Magnuson-Stevens Fishery Conservation and Management Act (MSA)—must make a decision to approve, disapprove, or partially approve the amendments by August 10, 2010. Comments on the approvability of the amendments must be submitted to NMFS by July 12, 2010. This preamble provides information about the full contents of each amendment for the purposes of promoting informed public comment. Detailed provisions regarding features of the proposed rule are provided where applicable. In addition, section IV of this preamble highlights what the main regulatory changes would be.”

Authority: 16 U.S.C. 1801 et seq.

Dated: June 24, 2010
Samuel D. Rauch III,
Deputy Assistant Administrator For Regulatory Programs, National Marine Fisheries Service.

[FR Doc. 2010-15932 Filed 6-29-10; 8:45 am]

BILLING CODE 3510-22-S